OFFICE OF SCIENCE AND TECHNOLOGY POLICY

Draft National Assessment of Efforts To Predict and Respond to Harmful Algal Blooms in U.S. Waters

ACTION: Notice of draft report release and request for public comment.

SUMMARY: The Office of Science and Technology Policy (OSTP) publishes this notice to announce the availability of the Draft National Assessment of Efforts to Predict and Respond to Harmful Algal Blooms in U.S. Waters which was mandated by Congress in the Harmful Algal Bloom and Hypoxia Amendments Act of 2004 (Pub. L. 108-456). This report reviews and evaluates short term harmful algal bloom (HAB) prediction techniques, and identifies current prevention, control and mitigation (PCM) programs and research for freshwater, estuarine and marine HABs operating at the national, State, local and tribal level.

DATES: Comments on this draft document must be submitted by 11/20/2006.

ADDRESSES: The Draft National Assessment of Efforts to Predict and Respond to Harmful Algal Blooms in U.S. Waters will be available at the following location (http://ocean.ceq.gov/about/sup_jsost_iwgs.html). The public is encouraged to submit comments on the draft report electronically to Prediction.Response.Comments@noaa.gov. For those who do not have access to a computer, comments on the document may be submitted in writing to: Quay Dortch, NOS/NCCOS/CSCOR/COP, N/SCI2, NOAA, 1305 East West Highway, Building IV Rm 8220, Silver Spring, MD 20910.

FOR FURTHER INFORMATION CONTACT: Quay Dortch by phone 301-713-3338 x157.

SUPPLEMENTARY INFORMATION: OSTP is publishing this draft report as mandated by the Harmful Algal Blooms and Hypoxia Amendments Act 2004 (Pub. L. 108-456) to request public comments. The report is organized into five sections plus five appendices: (1) Executive Summary, (2) Legislative Background and Purpose of the Report, (3) Assessment of the Harmful Algal Bloom (HAB) Problem in U.S. Waters, (4) Prediction and Response Programs in the U.S. and (5) Opportunities for Advancement in Prediction and Response Efforts. Appendices include: Appendix I: Prediction and Response Programs in the U.S., Appendix II: Other National Programs, Appendix III: State, local, and tribal Prediction and Response Efforts, Appendix IV: International Programs related to HAB prediction and response, and Appendix V: Federal Register notice.

Report Summary

The Harmful Algal Bloom and Hypoxia Amendments Act of 2004 (Pub. L. 108-456) (HABHRCA 2004) reauthorized the original Harmful Algal Bloom and Hypoxia Research and Control Act (Pub. L. 105-383) of 1998 and stipulated generation of five reports to assess and recommend research programs on harmful algal blooms (HABs) and hypoxia in U.S. waters. Section 103 of HABHRCA 2004 requires a Prediction and Response Report. This report will review and evaluate HAB prediction and response techniques and identify current prevention, control and mitigation (PCM) programs for freshwater, estuarine and marine HABs. Prediction and response are narrowly defined for the purpose of this report in order to avoid overlap with a subsequent report in this series, Scientific Assessment of Marine Harmful Algal Blooms.

The Interagency Working Group on Harmful Algal Blooms, Hypoxia, and Human Health (IWG-4H) of the Joint Subcommittee on Ocean Science and Technology (JSOST), which was tasked with implementing HABHRCA 2004, streamlined the reporting process by linking the P&R report (Section 103) with the National Scientific Research, Development, Demonstration, and Technology Transfer Plan on Reducing Impacts from Harmful Algal Blooms (Section 104 RDDTT Plan). The P&R report will (1) detail Federal, State, and tribal prediction and response related research and impact assessments, (2) identify opportunities for improvement of prediction and response efforts and associated infrastructure, and (3) propose a process to evaluate current prediction and response programs in order to develop a coordinated research priorities plan (RDDTT Plan). The final step (3) will lead to the development of the second report (RDDTT Plan) stipulated by the HABHRCA legislation (Section 104). The P&R report and the RDDTT Plan together comprise a comprehensive evaluation and multi-stakeholder plan to improve the national and local response to HABs in U.S. waters.

It is widely believed that the frequency and geographic distribution of HABs have been increasing worldwide. All U.S. coastal States have experienced HABs over the last decade. HAB frequency is also thought to be increasing in freshwater systems including ponds and lakes. In response, Federal, State, local, and tribal governments in collaboration with academic institutions have developed a variety of programs over the past 10 years both to understand HAB ecology and to minimize, prevent, or control HABs and HAB impacts in U.S. waters.

As a result of the efforts initiated in 1993, there are now 16 Federal extramural funding programs which either specifically or generally target HAB prediction and response and 20 intramural Federal research programs which are generating exciting new technologies for HAB monitoring and control. There are 2 major Federal multi-agency funding programs which represent important cross agency collaborative efforts. At least 25 States conduct HAB response efforts, operating through a wide range of State government departments and non profits. Tribes in some States are collaborating with academic, Federal, and State governments to monitor the presence of HABs. Given the global scope of HABs, U.S. programs also work closely with international programs and in some cases contribute funding.

The P&R report describes the remarkable progress made in some areas by Federal prediction and response programs. The greatest effort and progress has been made in mitigation, including improved monitoring and prediction capabilities, the establishment of event response programs, the conduct of economic impact assessments, and establishment of public health measures. Studies leading to prevention and control have led to new approaches. Infrastructure is being developed, cooperation and coordination has improved and incentive based programs have been used to address HAB problems.

Despite progress made, opportunities for advancing response to HABs still exist at the Federal and State level. The P&R report outlines opportunities for advancement identified by Federal agencies for HAB prediction and response and by the HAB community in the report, Harmful Algal Research and Response: A National Environmental Science Strategy (HARRNESS) 2005-2015. (Ramsdell, J.S., Anderson, D.M., and Glibert, P.M. (eds.) Ecological Society of America, Washington, DC, 96pp, 2005). This FRN requests public comment on the state of prediction and response programs in the U.S. and suggestions for how to improve that response.

Comments Request

The Office of Science and Technology Policy (OSTP) welcomes all comments on the content of the Draft report. OSTP is specifically interested in feedback on

(1) The current state of efforts (including infrastructure) in Prediction and Response to prevent, control, or mitigate Harmful Algal Blooms;

(2) suggestions for specific improvements in those efforts.

Please adhere to the instructions detailed below for preparing and submitting your comments on the Draft National Assessment of Efforts to Predict and Respond to Harmful Algal Blooms in U.S. Waters. Using the format guidance described below will facilitate the processing of reviewer comments and assure that all comments are appropriately considered. Please format your comments into the following sections: (1) Background information for yourself including name, title, organizational affiliation and email or telephone (optional), (2) overview or general comments, (3) specific comments with reference to pages or line numbers where possible, and (4) specific comments about the current state of efforts in prevention, control and mitigation of HABs (PCM), including infrastructure. Please number and print identifying information at the top of all pages.

Public comments may be submitted from September 27, 2006 to November 20, 2006.

M. David Hodge,
Operations Manager.

[FR Doc. E6-15837 Filed 9-26-06; 8:45 am]

BILLING CODE 3170-W6-P